DEPARTMENT OF THE INTERIOR

National Park Service

General Management Plan, Environmental Impact Statement, Aztec Ruins National Monument, New Mexico

AGENCY: National Park Service, Department of the Interior.

ACTION: Notice of Intent to prepare an Environmental Impact Statement for the General Management Plan at Aztec Ruins National Monument.

SUMMARY: Pursuant to the National Environmental Policy Act of 1969, 42 U.S.C. 4332 (C) the National Park Service is preparing an Environmental Impact Statement for the General Management Plan at Aztec Ruins National Monument. This effort will result in a comprehensive general management plan that encompasses preservation of natural and cultural resources—especially extensive archeology, visitor use and interpretation, and facilities development, with the input of stakeholders and up to 26 southwestern American Indian tribes, who consider the park a sacred ancestral site. In cooperation with the City of Aztec Planning Department, attention will be given to factors outside the boundaries that affect the integrity of Aztec Ruins National Monument. Alternatives to be considered include no-action and a proposed action (to be determined). Other alternatives that might be developed will be determined via the planning process.

Major planning interests and opportunities are to:

• Seek the input of interested American Indian tribes throughout the planning process. This was not done when the previous General Management Plan was produced in 1989.

• Determine long-term goals and objectives for resource management; visitor understanding, appreciation, and enjoyment; and facilities development in the nearly 300 acres of land that was added to the park boundaries in 1988, as well as in the original 27 acres; in view of inventories and knowledge about resources that have been acquired since the 1989 GMP, and with consideration of changing and projected operational needs for the future.

• Reassess and make recommendations regarding the development that was prescribed in the 1989 GMP. Some of that development has not been implemented, and some development has occurred that departed from the prescriptions.

• Explore partnership opportunities with neighbors, the City of Aztec, tribes, and others to protect resources within and surrounding the park, and to enhance opportunities for visitor enjoyment and understanding.

• Develop a range of alternatives in conjunction with neighbors, oil and gas companies, and other interested parties, to minimize impacts to the visitor experience and park resources from possible development outside park boundaries and active gas wells within the park.

A scoping information brochure has been prepared that highlights the planning interests and opportunities, describes how the public can provide input to the planning process, and invites public comment. Copies of that brochure may be obtained from the park Superintendent:

Dennis L. Carruth, Aztec Ruins National Monument, #84 County Road 2900, Aztec, NM 87410-9715, Tel: (505) 334-6174 x. 22, Fax: (505) 334-6372, E-mail: azru_superintendent@nps.gov.

People who would like to be placed on the park's mailing list for the project should contact the Superintendent.

DATES: Scoping meetings will be held to share information with the public about the GMP in the fall of 2003. Dates, times, and locations of those meetings can be obtained by contacting the Superintendent. The Park Service will accept scoping comments from the public for 30 days after the date of the last meeting.

ADDRESSES: Information will be available for public review and comment in the office of the Superintendent.

SUPPLEMENTARY INFORMATION: If you wish to comment on the scoping brochure or on any other issues associated with the plan, you may mail your comments to the Superintendent, or send them to him via e-mail. Please include your name and return address with your comments. You may also hand-deliver comments to the Superintendent at his office in the park. Our practice is to make comments, including names and home addresses of respondents, available for public review during regular business hours. Individual respondents may request that we withhold their home address from the record, which we will honor to the extent allowable by law. There also may be circumstances in which we would withhold from the record a respondent's identity, as allowable by law. If you wish us to withhold your name and/or address, you must state this prominently at the beginning of your comment. We will make all submissions from organizations or businesses, and from individuals identifying themselves as representatives or officials of organizations or businesses, available for public inspection in their entirety.

For further information contact the superintendent.

Dated: July 24, 2003.
John Crowley,
Associate Regional Director.

[FR Doc. 03-24651 Filed 10-7-03; 8:45 am]

BILLING CODE 4312-E7-P